FEDERAL COMMUNICATIONS COMMISSION

47 CFR Parts 1 and 27

[GN Docket No. 12-268, WT Docket Nos. 14-170, 05-211, RM-11395; DA 15-142]

Updating Competitive Bidding Rules; Further Extension of Comment and Reply Comment Periods

AGENCY: Federal Communications Commission.

ACTION: Proposed rule; extension of comment and reply comment deadlines

SUMMARY: In this document, the Wireless Telecommunications Bureau (Bureau) further extends the deadline for filing comments and reply comments on its Competitive Bidding Notice of Proposed Rulemaking (Competitive Bidding NPRM), which sought comment on the revision of certain part 1 competitive bidding rules and provided notice of the Commission's intention to resolve longstanding petitions for reconsideration.

DATES: Comments are due on or before February 20, 2015, and reply comments are due on or before March 6, 2015.

ADDRESSES: You may submit comments to the Competitive Bidding NPRM, identified by GN Docket No. 12-268 and WT Docket Nos. 14-170, 05-211, by any of the following methods:

• Electronic Filers: Federal Communication Commission's Electronic Comments Filing System (ECFS): http://fjallfoss.fcc.gov/ecfs2/. Follow the instructions for submitting comments.

• Paper Filers: All hand-delivered or messenger-delivered paper filings for the Commission's Secretary must be delivered to FCC Headquarters at 445 12th Street SW., Room TW-A325, Washington, DC 20554. The filing hours are 8:00 a.m. to 7:00 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People with Disabilities: To request materials in accessible formats for people with disabilities (braille, large print, electronic files, or audio format), send an email to fcc504@fcc.gov or call the Consumer & Governmental Affairs Bureau at 202-418-0530 (voice), 202-418-0432 (TTY).

FOR FURTHER INFORMATION CONTACT: Wireless Telecommunications Bureau, Auctions and Spectrum Access Division: Leslie Barnes at (202) 418-0660.

SUPPLEMENTARY INFORMATION: This is a summary of the Bureau's Order in GN Docket No. 12-268, WT Docket Nos. 14-170 and 05-211, DA 15-142, adopted and released on January 30, 2015. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/.

Summary

1. The Bureau released an Order on January 30, 2015, which further extends the comment and reply comment filing deadlines in response to the Competitive Bidding NPRM, 79 FR 68172, November 14, 2014.

2. Pursuant to sections 4(i), 4(j), and 5(c) of the Communications Act of 1934, as amended, and pursuant to the authority delegated in 47 CFR 0.131 and 0.331, the Bureau extends the deadlines for filing comments and reply comments until February 20, 2015, and March 6, 2015, respectively.

Federal Communications Commission.
Gary D. Michaels,
Deputy Chief, Auctions and Spectrum Access Division, WTB.

[FR Doc. 2015-02727 Filed 2-9-15; 8:45 am]

BILLING CODE 6712-01-P